ENVIRONMENTAL PROTECTION AGENCY

[ER-FRL-6639-6]

Environmental Impact Statements; Notice of Availability

Responsible Agency: Office of Federal Activities, General Information (202) 564-7167 or http://www.epa.gov/compliance/nepa/. Weekly receipt of Environmental Impact Statements filed April 14, 2003, through April 18, 2003, pursuant to 40 CFR 1506.9.

EIS No. 030172, Final EIS, FTA, NC, South Corridor Light Rail Project to Provide Light Rail Service between the Town of Pineville and Downtown Charlotte, City of Charlotte, Charlotte-Mecklenburg County, NC, Wait Period Ends: May 19, 2003, Contact: Alex McNeil (404) 562-3511. The above FTA EIS should have appeared in the 04/18/03 Federal Register. The 30-day Wait Period is Calculated from 04/18/2003.

EIS No. 030173, Final EIS, FRC, ID, Bear River Hydroelectric Project, Application for a New License (Relicense) for Three Existing Hydroelectric Projects: Soda (FERC No. 20-019), Grace-Cove (FERC No. 2401-007) and Oneida (FERC No. 472-017), Bear River Basin, Caribou and Franklin Counties, ID, Wait Period Ends: May 27, 2003, Contact: Susan O'Brian (202) 502-8449. This document is available on the Internet at: http://www.ferc.gov.

EIS No. 030174, Final EIS, FHW, RI, Sakonnet River Bridge Rehabilitation or Replacement Project, Portsmouth & Tiverton, Newport County, RI, Wait Period Ends: May 27, 2003, Contact: Daniel J. Berman (401) 528-2503.

EIS No. 030175, Final EIS, FHW, WV, KY, Appalachian Corridor I-66 Highway Construction, US 23/119 south of Pikeville, KY eastward to the King Coal Highway southeast of Matewan, Funding and U.S. Army COE Section 404 Permits Issuance, Pike County, KY and Mingo County, WV, Wait Period Ends: May 27, 2003, Contact: Jose Sepulveda (502) 223-6720.

EIS No. 030176, Final EIS, FHW, NY, U.S. 219 between Springville to Salamanca, Improvements from NY 39 to NY 17, PIN 5101.53, Funding and U.S. Army COE Section 404 Permit, Erie and Cattaraugus Counties, NY, Wait Period Ends: May 27, 2003, Contact: Robert E. Arnold (518) 431-4127.

EIS No. 030177, Draft EIS, TVA, TN, 500 kV Transmission Line in Middle Tennessee Project, Construct and Operation, Proposed Transmission Line would Connect Cumberland Fossil Plant in Stewart County with either Montgomery 500 kV Substation Montgomery County, or Davidson 500 kV Substation Davidson County, Stewart, Houston, Montgomery, Dickerson, Cheatham, TN, Comment Period Ends: June 10, 2003, Contact: Charles P. Nicholson (865) 632-3582. This document is available on the Internet at: http://www.tva.gov/environment/reports/index.htm.

EIS No. 030178, Draft EIS, FHW, WA, I-90 Two-Way Transit and HOV Operation Project, To Provide Reliable Transportation between Seattle and Bellevue, Sound Transit Regional Express, U.S. Coast Guard Permit and U.S. Army Corps Nationwide Permit, King County, WA, Comment Period Ends: June 9, 2003, Contact: James A. Leonard (360) 753-9408. This document is available on the Internet at: http://www.soundtransit.org/stplans/eastling/I_90.htm.

EIS No. 030179, Final EIS, FHW, KY, IN, Louisville-Southern Indiana Ohio River Bridges Projects, To Improve Cross-River Mobility between Jefferson County, KY and Clark County, ID, Coast Guard Bridge and U.S. Army COE Section 10 and 404 Permits Issuance, Jefferson County, KY and Clark County, IN, Comment Period Ends: June 25, 2003, Contact: John Ballantyme (502) 223-6747.

EIS No. 030180, Draft EIS, NPS, CA, Whiskeytown Fire Management Plan, Implementation, Whiskeytown National Recreation Area, Klamath Mountains, Shasta County, CA, Comment Period Ends: June 24, 2003, Contact: Paul DePrey (530) 242-3445. This document is available on the Internet at: http://www.nps.gov/whis/exp/fireweb/firehomepage.htm.

EIS No. 030181, Draft EIS, AFS, AK, Greens Creek Tailings Disposal Project, To Authorize Construction of Additional Dry Tailings Disposal Storage, Admiralty National Monument, Tongass National Forest, AK, Comment Period Ends: June 9, 2003, Contact: Pete Griffin (907) 586-8800. This document is available on the Internet at: http://www.greenscreekeis.com.

EIS No. 030182, Final Supplement, FHW, UT, U.S. Highway 189, Wildwood to Heber Valley, between the junctions with Ut-92 and U.S. Highway 40, Utah and Wasatch Counties, UT, Wait Period Ends: May 27, 2003, Contact: Michael Morrow, P.E. (801) 963-0182.

Amended Notices

EIS No. 030080, Draft EIS, AFS, SC, Sumter National Forest Revised Land and Resource Management Plan, Implementation, Oconee, Chester, Fairfield, Laurens, Newberry, Union-Abbeville, Edgefield, Greenwood, McCormick and Saluda Counties, SC, Comment Period Ends: June 21, 2003, Contact: Jerome Thomas (803) 561-4000. Revision of FR Notice Published on 3/14/2003: CEQ Comment Period Ending 6/21/2003 has been Extended to 7/3/2003.

EIS No. 030104, Draft EIS, AFS, TN, Cherokee National Forest Revised Land and Resource Management Plan, Implementation, Carter, Cocke, Greene, Johnson, McMinn, Monroe, Polk, Sullivan and Unicoil, TN, Comment Period Ends: July 3, 2003, Contact: Terry McDonald (423) 476-9700. Revision of FR Notice Published on 3/21/2003: CEQ Comment Period Ending 6/16/2003 has been Extended to 7/3/2003.

EIS No. 030106, Draft EIS, AFS, VA, KY, WV, Jefferson National Forest Revised Land and Resource Management Plan, Implementation, Mount Rogers National Recreation Area, Clinch, Glenwood, New Castle, and New River Valley Rangers Districts, VA, WV and KY, Comment Period Ends: July 3, 2003, Contact: Nancy Ross (540) 265-5172. Revision of FR Notice Published on 3/21/2003: CEQ Comment Period Ending on 6/19/2003 has been Extended to 7/3/2003.

EIS No. 030134, Draft EIS, COE, FL, Miami Harbor Navigation Improvement Project, Provide Greater Navigation Safety and Accommodating Larger Vessels, Port of Miami, Miami-Dade County, FL, Comment Period Ends: May 19, 2003, Contact: James McAdams (904) 232-2117. The above EIS was inadvertently published in the 4/4/2003 FR. The Correct Notice of Availability was published in the 3/14/2003 FR. The CEQ is #030092. Comments are due back to the preparing agency on May 4, 2003.

EIS No. 030171, Draft EIS, AFS, UT, Prima East Clear Creek Federal No. 22-42 Gas Exploration Well, Application for Permit to Drill and (Surface Use Plan of Operations) Castle Valley Ridge, Ferron/Price Ranger District, Manti-La Sal National Forest, Carbon and Emery Counties, UT, Comment Period Ends: June 9, 2003, Contact: Karl Boyer (435) 637-2817.

Revision of FR Notice Published on 04/18/2003: CEQ Comment Period Ending 06/02/2003 has been Reestablished to 06/09/2003. Due to Incomplete Distribution of the DEIS at the time of Filing with USEPA under Section 1506.9 of the CEQ Regulations.

Dated: April 22, 2003.
Joseph C. Montgomery,
Director, NEPA Compliance Division, Office of Federal Activities.

[FR Doc. 03-10274 Filed 4-24-03; 8:45 am]

BILLING CODE 6560-50-P